ENVIRONMENTAL PROTECTION AGENCY

[EPA-HQ-OW-2016-0404; FRL-9952-57-OW]

Proposed Collection; Comment Request; Proposed Information Collection Request for the National Study of Nutrient Removal and Secondary Technologies: Publicly Owned Treatment Works (POTW) Screener Questionnaire

AGENCY: Environmental Protection Agency (EPA).

ACTION: Notice.

SUMMARY: The Environmental Protection Agency is planning to submit an information collection request (ICR) for a mandatory survey, “Proposed Information Collection Request for the National Study of Nutrient Removal and Secondary Technologies: Publicly Owned Treatment Works (POTW) Screener Questionnaire” (EPA ICR No. 2553.01, OMB Control No. 2040-NEW). Before submitting the ICR to the Office of Management and Budget (OMB) for review and approval in accordance with the Paperwork Reduction Act, EPA is soliciting public comments on specific aspects of the proposed information collection as described below. An Agency may not conduct or sponsor, and a person is not required to respond to, a collection of information unless it displays a currently valid OMB control number.

DATES: Comments must be submitted on or before November 18, 2016.

ADDRESSES: Submit your comments, referencing Docket ID No. EPA-HQ-OW-2016-0404 online using www.regulations.gov (our preferred method), by email to OW-Docket@epa.gov, Attention Docket ID No. EPA-HQ-OW-2016-0404, or by mail to: EPA Docket Center, Environmental Protection Agency, Mail Code 28221T, 1200 Pennsylvania Ave. NW., Washington, DC 20460.

Instructions: Direct your comments to Docket ID No. EPA-HQ-OW-2016-0404. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment along with any disk you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Dr. Paul Shriner, Engineering and Analysis Division (4303T), Environmental Protection Agency, 1200 Pennsylvania Ave. NW., Washington, DC 20460; telephone number: 202-566-1076; email address: nutrient-removal-study@epa.gov.

SUPPLEMENTARY INFORMATION:

How can I access the docket and/or submit comments?

EPA has established a public docket for this ICR under Docket ID No. EPA—EPA-HQ-OW-2016-0404, which is available at https://www.regulations.gov, or for in person viewing at the Water Docket in the EPA Docket Center, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426.

Use https://www.regulations.gov to obtain a copy of the draft collection of information supporting statement, obtain a draft of the screener, review the draft mailing list of screener respondents, submit or view public comments, view the index listing of the contents of the docket, and access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the accuracy, quality, utility, and clarity of the information to be collected; and

(iv) Minimize the burden of the collection of information on those who are to respond, including the use of appropriate automated electronic, mechanical, or other technological collection techniques or other forms of information technology (e.g., permitting electronic submission of responses). In particular, EPA is requesting comments from small POTWs (those that service a population of less than 50,000) on examples of specific additional ways EPA can reduce the paperwork burden on small facilities.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES above.

7. To ensure proper receipt by EPA, be sure to identify the docket ID number assigned to this action in the subject line on the first page of your response. You may also provide the name, date, and Federal Register citation.

What information collection activity or ICR does this apply to?

Affected entities: Entities potentially affected by this action are approximately 16,000 (but no more than 20,000) POTWs that meet the definition under 40 CFR 403.3(q), as well as up to 100 state and/or small municipal association contacts.

Title: National Study of Nutrient Removal and Secondary Technologies: Publicly Owned Treatment Works (POTW) Screener Questionnaire Information Collection Request.

ICR numbers: EPA ICR No. 2553.01, OMB Control No. 2040—NEW.

ICR status: This ICR is for a new information collection activity. An Agency may not conduct or sponsor, and a person is not required to respond to, a collection of information, unless it displays a currently valid OMB control number. The OMB control numbers for EPA's information collections are displayed either by publication in the Federal Register or by other appropriate means, such as on the related collection instrument or form, if applicable.

Abstract: Nutrient pollution remains the single greatest challenge to our Nation's water quality, and presents a growing threat to public health and local economies—contributing to toxic harmful algal blooms, contamination of drinking water sources, and costly impacts on recreation, tourism and fisheries. The multi-phase study described here, when completed, will provide a rich database of nutrient removal performance at secondary treatment POTWs nationwide, and will help POTWs understand the range of nutrient removal performance and opportunities to optimize nutrient removals based on data from their peers. It will also serve as a major new resource for POTWs, states and stakeholders to evaluate the most cost effective approaches to nutrient reduction at the watershed scale. The EPA is collaborating with states to make greater progress in reducing nutrient loadings discharged into the Nation's waters from all sources. With this goal in mind, EPA's Office of Water is planning to collect data to evaluate the nutrient removals and related technology performance of POTWs with conventional secondary treatment. For the purposes of this study “conventional secondary treatment” are those processes used by industry to meet the regulatory requirements for secondary treatment. The goals of this study would be to establish a baseline of nutrient performance nationally for secondary treatment facilities and to document the capability of POTWs to reduce nutrient discharges by implementing changes to operations and maintenance, without making extensive capital investments.

The full study would be conducted in multiple phases over the course of four to five years, allowing for interactions with stakeholders and experts in each phase. The first phase of the study is a screener questionnaire which is the focus of this ICR.

To initiate this study, EPA first needs to update existing information on the universe of POTWs in the U.S., including tribally owned facilities, and collect basic information on the characteristics of these POTWs. There are no currently available datasets which identify all the POTWs in the country, or that identify which POTWs are conventional secondary treatment plants. These conventional secondary plants would then be the focus of study over the next four years to determine how efficiently these plants remove nutrients and how enhancements to operation and maintenance have improved that performance. EPA envisions conducting future surveys of a statistically representative sample of the population of secondary treatment plants but will not know the exact format of the collection until it receives data from this screener. Regardless of the method, EPA's objective is to create a database of the full population of POTWs in the U.S. and use that database for further statistical study of nutrient removal performance. EPA plans to make this database publically available—subject to confidentiality concerns that may arise. Currently only a small number of case studies are available documenting how secondary treatment plants can reduce nutrient discharges through enhanced operation and maintenance procedures. The study EPA is planning would provide statistically representative data on improved nutrient removal by secondary treatment plants resulting from changes in operation and maintenance. This study would help States and POTWs agree to and set well-informed and realistic nutrient load reduction targets for wastewater treatment facilities where appropriate, and provide information on the time and costs needed to make enhancements in operation and maintenance procedures.

EPA's Office of Water plans to administer the initial survey as a mandatory census of POTWs in the U.S. Clean Water Act Section 308 authority constitutes a broad authority ¹ to request information to carry out any objective under the Clean Water Act. 33 U.S.C. 1318(a). Any use of 308 authority is never taken lightly by EPA, and much deliberation went into this decision. Key to our decision are the goals of the overall study and the concern that voluntary submission or self-selection could result in a low or unrepresentative survey response rate. This census, the first phase of the study, is essential to the future phases of the study. Requiring facilities to participate is necessary to identify all of the secondary treatment or equivalent facilities in the U.S. EPA's Office of Water intends to use this information for research and statistical purposes only. Information is not being collected for purposes of enforcement or to compel facilities to submit information regarding activities that might be potential violations of their National Pollution Discharge Elimination System (NPDES) permits. This census will solicit basic facility identification, characterization, and technical information necessary to develop the future detailed questionnaire, to select the sample of secondary treatment plants planned for subsequent phases of the study, and to select POTWs where future influent and effluent sampling could be conducted to document performance. EPA would prepare a second ICR for the subsequent phases of the study after the first phase census is completed and the sample frame for the subsequent phases developed. EPA is considering utilizing pre-tests, pilots, or other techniques to obtain stakeholder input in the development of the subsequent phases of this study which may not need to be conducted using 308 authority.

¹ See Natural Resources Defense Council, Inc. v. U.S. EPA, 822 F.2d 104, 119 (D.C. Cir. 1987) (“[i]n our view, the statute's sweep is sufficient to justify broad information disclosure requirements relating to the Administrator's duties, as long as the disclosure demands which he imposes are `reasonable.' ”)

The rationale for conducting this effort as a mandatory census is two-fold. Currently there exist multiple, disparate databases containing information concerning various subsets of treatment facilities; however, each of these databases is incomplete with respect to identifying all facilities. In addition, each database has missing or incomplete data fields. Second, historic precedent indicates that voluntary survey designs have extremely low response rates and issues with bias. Both of these facts make getting an accurate, national profile of POTWs infeasible without making it mandatory to respond. EPA also intends to conduct up to 40 POTW site visits and up to 100 state and small municipality association phone contacts to solicit information on industry terminology, typical treatment trains and modes of operation, and nutrient removal technologies and operating practices, and this ICR addresses these activities as well.

EPA is limiting the information requested by the census to that which is necessary to create a complete population of POTWs and to identify basic information about that population. Questions include those necessary to identify and stratify the universe of POTWs and, within that population, the secondary treatment POTWs not designed specifically to remove nitrogen and phosphorus. A draft of the screener is available at Docket ID No. EPA-HQ-OW-2016-0404 as part of today's request for comments (see Instructions section of this notice for further information).

The draft screener makes use of multiple choice and yes/no questions, with the intention to use drop down menus and checkboxes from which respondents will choose the best answer. EPA is not including open-ended questions in the screener questionnaire which would likely be unwieldy due to the number and expected variation of responses and the extensive follow-up needed when entering the responses into a database. EPA intends to design the screener questionnaire as a web-based survey that POTWs can fill out and submit online. EPA intends to require the submittal of a signed certification form that will either be uploaded with the screener, or may be mailed directly to the Agency. EPA will provide a mechanism for POTWs to respond with a mailed response if they cannot access the internet. EPA is specifically soliciting comments on simplifying the census format. In addition, EPA is soliciting comments on EPA's approach to developing the mailing list, and has made a draft available in the Docket (see Instructions section of this notice for further information).

Burden statement: This information collection is a one-time event. The total respondent reporting and recordkeeping burden for this collection of information is estimated to average 3.5 hours per response for 90 percent of the respondents and 1.5 hours per response for 10 percent of the respondents. Burden means the total time, effort, or financial resources expended by persons to generate, maintain, retain, or disclose or provide information to or for a Federal agency. The burden estimate includes the time needed to review instructions; develop, acquire, install, and utilize technology and systems for the purposes of collecting, validating, and verifying information, processing and maintaining information, and disclosing and providing information; train personnel to be able to respond to a collection of information; search data sources; complete and review the collection of information; and transmit or otherwise disclose the information.

The ICR provides a detailed explanation of the Agency's estimate, which is only briefly summarized here:

Estimated total number of potential respondents: No more than 20,000 POTWs, 40 POTWs for site visits, 100 state or small municipal association contacts.

Frequency of response: One-time data collection.

Estimated total average burden for each respondent: POTW screener survey response—3.5 hours for 90 percent of the respondents ($147) and 1.5 hours for 10 percent of the respondents ($65); POTW site visit respondent—8 hours, $224; State/Small Municipal Association contact—1 hour, $55.

Estimated total respondent burden hours: 66,420.

Estimated total respondent costs: $2,792,713. This estimate reflects unit costs for labor and operational and maintenance costs.

What is the next step in the process for this ICR?

EPA will consider the comments received and amend the ICR, the screener questionnaire, and its approach as appropriate. During this public comment period, EPA will be working with stakeholders to refine the survey instrument and will revise the instrument as appropriate after considering the comments expressed during those interactions and in response to this notice. The final ICR package will then be submitted to OMB for review and approval pursuant to 5 CFR 1320.12. At that time, EPA will issue another Federal Register notice pursuant to 5 CFR 1320.5(a)(1)(iv) to announce the submission of the ICR to OMB and a 30 day opportunity to submit comments to OMB on this ICR. If you have any questions about this ICR or the approval process, please contact the technical person listed above under FOR FURTHER INFORMATION CONTACT.

Dated: September 12, 2016.
Elizabeth Southerland,
Director, Office of Science and Technology.

[FR Doc. 2016-22498 Filed 9-16-16; 8:45 am]

BILLING CODE 6560-50-P